DEPARTMENT OF DEFENSE

Department of the Army, Corps of Engineers

Notice of Availability of Draft Environmental Impact Statement for the Floyd County, KY (Levisa Fork Basin), Section 202 Project

AGENCY: Department of the Army, U.S. Army Corps of Engineers, DoD.

ACTION: Notice of availability.

SUMMARY: Pursuant to the National Environmental Policy Act (NEPA), the U.S. Army Corps of Engineers, DoD. Huntington District has prepared a Draft Environmental Impact Statement (DEIS) which documents planning analyses undertaken for a proposed flood damage reduction projects in the Levisa Fork basin in Floyd County, KY. The study area includes the incorporation areas of Prestonsburg and unincorporated areas in Floyd County which are subject to flood damage from the potential of a reoccurrence of the April 1977 flood. The study area does not include the City of Martin, KY where a separate flood damage reduction project is underway. The DEIS documents agency evaluation of four alternatives, two of which includes floodwall/levee alignments intended to protect Prestonsburg and non-structure flood-proofing measures, a total non-structural alternative, and the No Federal Action alternative.

DATES: Written comments on the Draft Environmental Impact Statement will be accepted for 45 days following publication of the Environmental Protection Agency's Notice of Availability for this Draft Environmental Impact Statement (DEIS) in the Federal Register.

ADDRESSES: Address all written comments on the DEIS to Stephen O'Leary PM-PD-S, U.S. Army Corps of Engineers, Huntington District, 502 Eighth Street, Huntington, WV 25701-2070. Electronic mail: Stephen.D.Oleary@Lrh01.usace.army.mil.

FOR FURTHER INFORMATION CONTACT: Stephen O'Leary, Telephone (304) 399-5841.

SUPPLEMENTARY INFORMATION: The Energy and Water Development Appropriations Act of 1981 (Pub. L. 96-367) provided $25,150,000 for the development of flood protection measures for the Levisa and Tug Forks of the Big Sandy River and Upper Cumberland River. Many Floyd County communities within the floodplain of the Levisa Fork and Russell Fork and tributaries were devastated by the April 1977 flood, which was the flood of record for much of the region. Congressional reaction to these flood events resulted in the inclusion of funds and language in various legislative directives that mandated expeditious implementation of flood damage reduction measures within the study area covered by the Huntington District's Section 202 General Plan.

The study area, primarily residential in nature, includes the incorporated areas of Prestonsburg and unincorporated areas in the county subject to flood damage from the potential of a reoccurrence of the April 1977 flood. The proposed project would require providing flood protection measures to approximately 2,000 structures, 75 percent of which are residential.

Four alternatives are evaluated in detail the DEIS, including the No Federal Action. One alternative is totally nonstructural flood-proofing measures. Two alternatives include floodwalls/levees along with nonstructural measures, and are generally described as follows. (1) Floodwall/levees to provide flood damage reduction for infrastructure, roadways, homes, and businesses in most of Prestonsburg through a combination of the floodwall, gates, raised roadways, curbs, and small wall sections in the down town area. Floodwalls would prevent Levisa Fork overtopping in the Blackbottom area, which now causes flooding in the central business district as well as in Blackbottom. In this alternative the floodwall would also extend to protect the Big Sandy Community and Technical College (BSCTC) and its campus. (2) The proposed structural component would provide flood damage reduction for infrastructure, roadways, homes, and businesses in most of Prestonsburg through a combination of the floodwall, grates, raised roadways, curbs, and small wall sections in the downtown area. This plan's floodwall would prevent Levisa Fork overtopping in the Blackbottom area, which now causes flooding in the central business district as well as in Blackbottom. Flood insurance costs would be reduced for structures protected by the floodwall. The floodwall would not protect the BSCTC and its campus. BSCTC would be able to participate in the nonstructural program for eligible structures.

The Corps invites full public participation to promote open communication and better decision-making. All persons and organizations that have an interest in the Levisa Fork Basin flooding problems as they affect Floyd County and the environment are urged to participate in this NEPA process.

A public hearing on the content of the DEIS will be held at Prestonsburg High School, 825 Blackcat Boulevard, Prestonsburg, KY 41649. The public hearing and all other future public meetings and any other public involvement activities will be announced in advance through notices, media news releases, and/or mailings.

Copies of the DEIS may be reviewed at the following locations:

1. U.S. Army Corps of Engineers, Huntington District, 502 Eighth Street, Huntington, WV 25701-2070, Room 3100.

2. Floyd County Public Library, 18 North Arnold Avenue, Prestonsburg, KY 41653-1269.

3. Prestonsburg Community College Library, One Bert T. Combs Drive, Prestonsburg, KY 41653.

4. http://www.lrh.usace.army.mil/projects/review.

Brenda S. Bowen,
Army Federal Register Liaison Officer.

[FR Doc. 06-4235 Filed 5-4-06; 8:45 am]

BILLING CODE 3710-GM-M